NUCLEAR REGULATORY COMMISSION

[Docket No. 70-1151; NRC-2015-0039]

Westinghouse Electric Company, LLC; Columbia Fuel Fabrication Facility

AGENCY: Nuclear Regulatory Commission.

ACTION: Environmental assessment and finding of no significant impact; issuance.

SUMMARY: The U.S. Nuclear Regulatory Commission (NRC) is considering the renewal of Special Nuclear Materials (SNM) License No. SNM-1107 to allow Westinghouse Electric Company, LLC (WEC) to continue to operate its Columbia Fuel Fabrication Facility (CFFF) for an additional 40 years. The NRC has prepared a final environmental assessment (EA) and finding of no significant impact (FONSI) for this licensing action.

DATES: The final EA referenced in this document was made available on June 8, 2018.

ADDRESSES: Please refer to Docket ID NRC-2015-0039 when contacting the NRC about the availability of information regarding this document. You may obtain publicly-available information related to this document using any of the following methods:

• Federal Rulemaking Website: Go to http://www.regulations.gov and search for Docket ID NRC-2015-0039. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Jessie Muir Quintero, U.S. Nuclear Regulatory Commission, Washington, DC 20555-0001; telephone: 301-415-7476, email: Jessie.Quintero@nrc.gov.

SUPPLEMENTARY INFORMATION:

I. Introduction

The NRC is considering renewing License SNM-1107 to allow WEC to continue to operate its CFFF for an additional 40 years. The license renewal period of 40 years would begin once the NRC approves the renewal. As required by part 51 of title 10 of the Code of Federal Regulations (10 CFR), “Environmental Protection Regulation for Domestic Licensing and Related Regulatory Functions,” the NRC prepared an EA (ADAMS Accession No. ML18120A318). Based on the results of the final EA, described as follows, the NRC has determined not to prepare an environmental impact statement (EIS) for the license renewal, and is issuing a FONSI.

II. Environmental Assessment

Description of the Proposed Action

WEC submitted a license renewal application in 2014 (ADAMS Accession No. ML14352A111), which was updated in March 2018 (ADAMS Accession No. ML18087A400) to operate CFFF for an additional 40 years. The 40-year timeframe would begin upon NRC's approval of the license renewal application.

Need for the Proposed Action

The proposed action would allow CFFF to continue to be a source of nuclear fuel for commercial nuclear power plants.

Environmental Impacts of the Proposed Action

The NRC assessed the potential environmental impacts from the renewal of License SNM-1107 for an additional 40 years and determined there would be noticeable but not significant impacts to the quality of the human environment. WEC is not proposing any new construction or land disturbance activities. Although there is existing ground-water contamination on site, it has not migrated offsite or into the deeper aquifers and there is currently no pathway for human exposure. WEC's environmental monitoring program will continue to provide information on existing ground-water contamination and help identify future unintended releases to the environment. If needed, WEC will implement corrective actions to address contamination in the surface water and ground water. NRC expects that WEC will continue to meet all local, State, and Federal requirements, including its National Pollutant Discharge Elimination System permit and its obligations with the South Carolina Department of Health and Environmental Control (SCDHEC) under its voluntary cleanup contract related to ground-water contamination.

Environmental Impacts of the Alternatives to the Proposed Action

As an alternative to the proposed action, the NRC staff considered denial of the proposed action (i.e., the “no-action” alternative). The no-action alternative would mean that the NRC would not approve the license renewal. The CFFF would continue to operate under its current license until it expires on September 30, 2027. The NRC staff previously evaluated the environmental impacts of WEC continuing to operate the CFFF until September 2027 when it approved WEC's license renewal in 2007. The NRC staff concluded in the 2007 EA that the continued operation of the CFFF site would not result in a significant impact to the environment (ADAMS Accession No. ML070510647).

The impacts of the no-action alternative would be similar to those of the Proposed Action except the impacts of the no-action alternative would occur only until 2027, when the current license expires, and decommissioning including any site remediation would occur sooner.

Agencies and Persons Consulted

On March 27, 2017, the NRC staff sent a copy of the draft EA to the SCDHEC for their review and comment (ADAMS Accession No. ML18088A415). The SCDHEC responded on April 27, 2018, with no additional comments on the draft EA (ADAMS Accession No. ML18117A130).

The NRC consulted with the U.S. Fish and Wildlife Service (FWS) on listed protected species at the CFFF. The FWS concurred with the NRC's determination that the proposed activity may affect but is not likely to adversely affect the six federally listed species (ADAMS Accession No. ML15161A543). In August 2017, the NRC submitted a Biological Evaluation to the National Marine Fisheries Service (NMFS) with the determination that the license renewal may affect but is not likely to adversely affect the shortnose sturgeon (ADAMS Accession No. ML17227A378). On April 12, 2018, the NMFS concurred with the NRC's determination (ADAMS Accession No. ML18103A020).

III. Finding of No Significant Impact

Based on its review of the proposed action, and in accordance with the requirements in 10 CFR part 51, the NRC staff has determined that renewing License No. SNM-1107 for an additional 40 years would not significantly affect the environment. The NRC will require, by license condition, that WEC take corrective action if ground-water contamination exceeds State or Federal levels. The NRC staff has determined that pursuant to section 10 CFR 51.31, preparation of an EIS is not required for the proposed action and, pursuant to section 10 CFR 51.32, a FONSI is appropriate.

On the basis of the final EA, the NRC concludes that the proposed action will not have a significant effect on the quality of the human environment. Accordingly, the NRC has determined not to prepare an EIS for the proposed action.

Dated at Rockville, Maryland, this 11th day of June 2018.
For the Nuclear Regulatory Commission.
Craig G. Erlanger,
Director, Division of Fuel Cycle Safety, Safeguards and Environmental Review, Office of Nuclear Material Safety and Safeguards.

[FR Doc. 2018-12841 Filed 6-14-18; 8:45 am]

BILLING CODE 7590-01-P